DEPARTMENT OF DEFENSE

Department of the Air Force

Notice of Cancellation of Environmental Impact Statement

AGENCY: Department of Air Force, DoD.

ACTION: Notice of cancellation of Environmental Impact Statement.

SUMMARY: The Department of the Air Force is canceling the preparation of an Environmental Impact Statement (EIS) for the proposed Common Battlefield Airmen Training (CBAT) Program. The Air Force proposed implementing the CBAT Program at one of three Air Force installations: Moody Air Force Base (AFB), near Valdosta, GA; Barksdale AFB in Bossier City, LA; and Arnold AFB near Manchester, TN.

The Air Force published two previous Federal Register notices on this proposal:

• Notice of Intent (NOI)—FR November 14, 2006 (Volume 71, Number 219, pg. 66313-66314)

• Notice of Availability (NOA)—FR June 28, 2007 (Vol. 72, No. 110, pg. 31822)—Environmental Protection Agency (EPA) Weekly receipt of Environmental Impact Statements

FOR FURTHER INFORMATION CONTACT: Ms. Debra Harkiewicz, HQ AETC/A7CVI, 266 F Street W., Bldg 901, Randolph, AFB, TX 78150—(210) 652-3959.

Bao-Anh Trinh,
Air Force Federal Register Liaison Officer.

[FR Doc. E8-22046 Filed 9-19-08; 8:45 am]

BILLING CODE 5001-05-P